DEPARTMENT OF ENERGY

Federal Energy Regulatory Commission

[Project No. 13843-001]

Qualified Hydro 24, LLC; Notice of Cancellation of Scoping Meetings and Environmental Site Review

Take notice that Qualified Hydro 24, LLC, filed a request on June 4, 2012, to surrender the preliminary permit for the proposed Cle Elum Hydroelectric Project. The project would have been located at the U.S. Bureau of Reclamation's Cle Elum dam on the Cle Elum River near Cle Elum, in Kittitas County, Washington. By separate notice, the Integrated Licensing Process for the Cle Elum Project will be terminated. Therefore, the scoping meetings and environmental site visit scheduled for June 13, 2012 in Cle Elum, Washington are cancelled.

Dated: June 6, 2012.
Kimberly D. Bose,
Secretary.

[FR Doc. 2012-14449 Filed 6-12-12; 8:45 am]

BILLING CODE 6717-01-P